DEPARTMENT OF HOMELAND SECURITY

Coast Guard

33 CFR Part 117

[CGD08-07-043]

Drawbridge Operating Regulations; Sabine Lake, near Sabine Pass, Port Arthur, TX

AGENCY: Coast Guard, DHS.

ACTION: Notice of temporary deviation from regulations.

SUMMARY: The Commander, Eighth Coast Guard District, has issued a temporary deviation from the regulation governing the operation of the State Route 82 (SR 82) swing span bridge across the Sabine Lake at mile 10.0, Port Arthur, Jefferson County, Texas. This deviation provides for the bridge to remain closed to navigation to repair sections of the steel truss members of the drawbridge.

DATES: This deviation is effective from 5 a.m. on Monday, December 3, 2007 until 12 p.m. on Friday, December 7, 2007 and from 5 a.m. on Monday, December 10, 2007 until 9 p.m. on Friday, December 14, 2007.

ADDRESSES: Materials referred to in this document are available for inspection or copying at the office of the Eighth Coast Guard District, Bridge Administration Branch, Hale Boggs Federal Building, Room 1313, 500 Poydras Street, New Orleans, Louisiana 70130-3310 between 7 a.m. and 3 p.m., Monday through Friday, except Federal holidays. The telephone number is (504) 671-2128. The Bridge Administration Branch maintains the public docket for this temporary deviation.

FOR FURTHER INFORMATION CONTACT: Kay Wade, Bridge Administration Branch, telephone (504) 671-2128.

SUPPLEMENTARY INFORMATION: The Texas Department of Transportation has requested a temporary deviation in order to repair sections of the steel truss members of the SR 82 swing span bridge across the Sabine Lake at Port Arthur, Jefferson County, Texas. Repair of the steel truss members is necessary for continued operation of the swing span of the bridge. This temporary deviation will allow the bridge to remain in the closed-to-navigation position from 5 a.m. on Monday, December 3, 2007 until 12 p.m. on Friday, December 7, 2007 and from 5 a.m. on Monday, December 10, 2007 until 9 p.m. on Friday, December 14, 2007. During the closure period, the draw may be able to open during the scheduled maintenance period if at least 2 hours' advance notice is given. Currently, the draw opens on signal; except that, from 9 p.m. to 5 a.m., the draw shall open on signal, if at least 6 hours' notice is given to the Maintenance Supervisor at the Port Arthur Area Office. The draw opens on signal at any time for an emergency aboard a vessel.

The bridge is a swing span bridge with an available vertical navigational clearance of 9 feet above high water in the closed-to-navigation position. Navigation on the waterway consists primarily of recreational craft, although the bridge is occasionally transited by small tugs with tows transporting sand, gravel and marine shells. Due to prior experience, as well as coordination with waterway users, it has been determined that this closure will not have a significant effect on these vessels. An alternate route is available via the Sabine Neches Waterway, which is comprised of the Sabine Pass Channel, Port Arthur Channel and Sabine Neches Canal, thence passage into the lake from the north side.

In accordance with 33 CFR 117.35(e), the drawbridge must return to its regular operating schedule immediately at the end of the designated time period. This deviation from the operating regulations is authorized under 33 CFR 117.35.

Dated: November 19, 2007.
David M. Frank,
Bridge Administrator.

[FR Doc. E7-23046 Filed 11-26-07; 8:45 am]

BILLING CODE 4910-15-P